NUCLEAR REGULATORY COMMISSION

10 CFR Part 40

[NRC-2011-0072]

RIN 3150-AI95

Regulatory Changes To Implement the United States/Australian Agreement for Peaceful Nuclear Cooperation; Corrections

AGENCY: Nuclear Regulatory Commission.

ACTION: Final rule; correcting amendments.

SUMMARY: On November 8, 2011, the U.S. Nuclear Regulatory Commission (NRC or the Commission) published in the Federal Register a final rule (76 FR 69120) that amended the NRC's regulations to implement the 2010 “Agreement between the Government of Australia and the Government of the United States of America Concerning Peaceful Uses of Nuclear Energy.” The present NRC action is necessary to relocate a new section added by the final rule, and to make a related conforming change to the final rule.

DATES: This correction is effective December 20, 2011, and is applicable to November 8, 2011, the date the original rule became effective.

FOR FURTHER INFORMATION CONTACT: Cindy Bladey, Chief, Rules, Announcements, and Directives Branch, Office of Administration, U.S. Nuclear Regulatory Commission, Washington, DC 20555-0001, telephone: (301) 492-3667; email: Cindy.Bladey@nrc.gov.

SUPPLEMENTARY INFORMATION: This action corrects the final rule published on November 8, 2011 (76 FR 69120). Specifically, the new section in Title 10 of the Code of Federal Regulations (10 CFR) Part 40 is added as § 40.56 rather than § 40.52. This change is necessary because 10 CFR 40.52 through 40.55 were proposed to be added by a previous NRC rulemaking (75 FR 43425; July 26, 2010) that the NRC now intends to publish as a final rule. A conforming change is being made to the revised 10 CFR 40.13(c)(5)(v) provision, so that it will contain the proper cross-reference to § 40.56. These amendments are administrative in that they make no substantive changes to requirements, and the NRC accordingly finds that notice and opportunity for public comment on this corrective action is unnecessary.

List of Subjects in 10 CFR Part 40

Criminal penalties, Government contracts, Hazardous materials transportation, Nuclear materials, Reporting and recordkeeping requirements, Source material, Uranium.

For the reasons set out in the preamble and under the authority of the Atomic Energy Act of 1954, as amended; the Energy Reorganization Act of 1974, as amended; 5 U.S.C. 552 and 553; and the Energy Policy Act of 2005; Public Law 109-58, 119 Stat. 594 (2005); the NRC is adopting the following amendments to 10 CFR part 40.

PART 40—DOMESTIC LICENSING OF SOURCE MATERIAL

1. The authority citation for part 40 continues to read as follows:

Authority: Secs. 62, 63, 64, 65, 81, 161, 182, 183, 186, 68 Stat. 932, 933, 935, 948, 953, 954, 955, as amended, secs.11e(2), 83, 84, Pub. L. 95-604, 92 Stat. 3033, as amended, 3039, sec. 234, 83 Stat. 444, as amended (42 U.S.C. 2014(e)(2), 2092, 2093, 2094, 2095, 2111, 2113, 2114, 2201, 2232, 2233, 2236, 2282); sec. 274, Pub. L. 86-373, 73 Stat. 688 (42 U.S.C. 2021); secs. 201, as amended, 202, 206, 88 Stat. 1242, as amended, 1244, 1246 (42 U.S.C. 5841, 5842, 5846); sec. 275, 92 Stat. 3021, as amended by Pub. L. 97-415, 96 Stat. 2067 (42 U.S.C. 2022); sec. 193, 104 Stat. 2835, as amended by Pub. L. 104-134, 110 Stat. 1321, 1321-349 (42 U.S.C. 2243), sec. 1704, 112 Stat. 2750 (44 U.S.C. 3504 note) Energy Policy Act of 2005 Pub. L. No. 109-59, 119 Stat 594 (2205).

Section 40.7 also issued under Pub. L. 95-601, sec. 10, 92 Stat. 2951 as amended by Pub. L. 102-486 sec 2902, 106 Stat. 3122 (42 U.S.C. 5851). Section 40.31(g) also issued under sec. 122, 68 Stat. 939 (42 U.S.C. 2152). Section 40.46 also issued under sec. 184, 68 Stat. 954, as amended (42 U.S.C. 2234). Section 40.71 also issued under sec. 187, 68 Stat. 955.

(42 U.S.C. 2237).

§ 40.13 [Amended]

2. In § 40.13, paragraph (c)(5)(v) is amended by removing the reference “§ 40.52” and adding in its place the reference “§ 40.56”.

§ 40.52 [Redesignated as § 40.56]

3. Redesignate § 40.52 as § 40.56.

§§ 40.52 through 40.55 [Added and Reserved]

4. Add and reserve §§ 40.52 through 40.55.

Dated at Rockville, Maryland, this 14th day of December 2011.
For the Nuclear Regulatory Commission.
Leslie Terry,
Acting Chief, Rules, Announcements, and Directives Branch, Division of Administrative Services, Office of Administration.

[FR Doc. 2011-32471 Filed 12-19-11; 8:45 am]

BILLING CODE 7590-01-P